DEPARTMENT OF COMMERCE

National Oceanic and Atmospheric Administration

50 CFR Part 648

[Docket No. 140106011-4338-02]

RIN 0648-XD474

Fisheries of the Northeastern United States; Northeast Multispecies Fishery; Trimester Closure for the Common Pool Fishery

AGENCY: National Marine Fisheries Service (NMFS), National Oceanic and Atmospheric Administration (NOAA), Commerce.

ACTION: Temporary rule; area closure.

SUMMARY: This action closes the Southern New England/Mid-Atlantic yellowtail flounder Trimester Total Allowable Catch Area for the remainder of Trimester 1, through August 31, 2014. Based on our projection, the common pool fishery has caught over 90 percent of its Southern New England/Mid-Atlantic yellowtail flounder Trimester 1 total allowable catch, triggering the regulatory requirement to close the area for the remainder of the trimester. This action is intended to prevent further overages of the common pool's annual quota of Southern New England/Mid-Atlantic yellowtail flounder.

DATES: This action is effective August 27, 2014, through August 31, 2014.

FOR FURTHER INFORMATION CONTACT: Brett Alger, Fishery Management Specialist, 978-675-2153.

SUPPLEMENTARY INFORMATION: Federal regulations at § 648.82(n)(2)(ii) require the Regional Administrator to close a common pool Trimester Total Allowable Catch (TAC) Area for a stock when 90 percent of the Trimester TAC is projected to be caught. In such cases, the Trimester TAC Area for a stock closes to all common pool vessels fishing with gear capable of catching that stock for the remainder of the trimester. The fishing year 2014 (May 1, 2014, through April 30, 2015) common pool sub-annual catch limit (sub-ACL) for Southern New England/Mid-Atlantic (SNE/MA) yellowtail flounder is 95.0 mt and the Trimester 1 (May 1, 2014, through August 31, 2014) TAC is 19.9 mt. Based on the most recent data and information, which include vessel trip reports, dealer-reported landings, and vessel monitoring system (VMS) information, we have determined that 150 percent of the Trimester 1 TAC was caught as of August 20, 2014. Because of the low trimester catch limit and the rate at which common pool vessels can harvest SNE/MA yellowtail flounder, it was not possible to initiate this action any earlier than this. Therefore, effective August 27, 2014, the SNE/MA Yellowtail Flounder Trimester TAC Area is closed for the remainder of Trimester 1, through August 31, 2014, to all common pool vessels fishing with trawl gear and sink gillnet gear. Effective August 27, 2014, it is unlawful for common pool vessels to fish for, harvest, possess, or land regulated species or ocean pout in or from the SNE/MA Yellowtail Flounder Trimester TAC Area. The SNE/MA Yellowtail Flounder Trimester TAC Area includes statistical areas 537, 538, 539, and 613. This restriction does not apply to the groundfish trip of a common pool vessel that crossed the VMS demarcation line before August 27, 2014, therefore, if you have crossed the VMS demarcation line are currently at sea on a groundfish trip, you may complete your trip in all or part of the closed areas. The SNE/MA Yellowtail Flounder Trimester TAC Area will reopen to common pool vessels fishing with trawl and sink gillnet at the beginning of Trimester 2, on September 1, 2014.

Any overages of a trimester TAC will be deducted from Trimester 3, and any overages of the common pool's sub-ACL at the end of the fishing year will be deducted from the common pool's sub-ACL the following fishing year. Any uncaught portion of the Trimester 1 and Trimester 2 TAC will be carried over into the next trimester. Any uncaught portion of the common pool's sub-ACL may not be carried over into the following fishing year. Weekly quota monitoring reports for the common pool fishery can be found on our Web site at: http://www.nero.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The Trimester TAC Area closure is required by regulation in order to reduce the probability of the common pool fishery exceeding its sub-ACL of SNE/MA yellowtail flounder. Any overages of the common pool's sub-ACLs would undermine conservation objectives and trigger the implementation of accountability measures that would have negative economic impacts on common pool vessels. The data and information showing that SNE/MA yellowtail flounder had exceeded 90 percent of the Trimester 1 TAC for the stock only became available recently. The time necessary to provide for prior notice and comment, and a 30-day delay in effectiveness, would prevent NMFS from implementing the necessary Trimester TAC Area closure for SNE/MA yellowtail flounder in a timely manner, which could undermine management objectives of the Northeast Multispecies Fishery Management Plan, and cause negative economic impacts to the common pool fishery.

Authority: 16 U.S.C. 1801 et seq.

Dated: August 26, 2014.
Alan D. Risenhoover,
Director, Office of Sustainable Fisheries, National Marine Fisheries Service.

[FR Doc. 2014-20685 Filed 8-27-14; 11:15 am]

BILLING CODE 3510-22-P